INTER-AMERICAN FOUNDATION

Sunshine Act Meetings

TIME AND DATE: April 24, 2017, 9:00 a.m.-12:30 p.m.

PLACE: Inter-American Foundation, 1331 Pennsylvania Ave., Suite 1200, NW., Washington, DC 20004.

STATUS: Meeting of the Board of Directors, Open to the public.

MATTERS TO BE CONSIDERED:

Approval of the Minutes of the November 14, 2016, Meeting of the Board of Directors & Advisory

Management Report

FY 2018-2022 Strategic Plan

Advisory Council

Adjournment

CONTACT PERSON FOR MORE INFORMATION: Paul Zimmerman, General Counsel, (202) 683-7118.

Paul Zimmerman,
General Counsel.

[FR Doc. 2017-07585 Filed 4-11-17; 4:15 pm]

BILLING CODE 7025-01-P